DEPARTMENT OF ENERGY

Federal Energy Regulatory Commission

Combined Notice of Filings #1

Take notice that the Commission received the following exempt wholesale generator filings:

Docket Numbers: EG20-109-000.

Applicants: Inter-Power/AhlCon Partners, L.P.

Description: Notice of Self-Certification of EWG Status of Inter-Power/AhlCon Partners, L.P.

Filed Date: 3/31/20.

Accession Number: 20200331-5078.

Comments Due: 5 p.m. ET 4/21/20.

Docket Numbers: EG20-110-000.

Applicants: Northern Colorado Wind Energy Center, LLC.

Description: Notice of Self-Certification of Exempt Wholesale Generation Status of Northern Colorado Wind Energy Center, LLC.

Filed Date: 3/31/20.

Accession Number: 20200331-5283.

Comments Due: 5 p.m. ET 4/21/20.

Take notice that the Commission received the following electric rate filings:.

Docket Numbers: ER04-835-010.

Applicants: California Independent System Operator Corporation.

Description: Second Supplemental Informational Compliance Filing of the California Independent System Operator Corporation.

Filed Date: 3/31/20.

Accession Number: 20200331-5477.

Comments Due: 5 p.m. ET 4/21/20.

Docket Numbers: ER17-256-011; ER17-242-010; ER17-243-010; ER17-245-010; ER17-652-010.

Applicants: Darby Power, LLC, Gavin Power, LLC, Lawrenceburg Power, LLC, Waterford Power, LLC, Lightstone Marketing LLC.

Description: Notice of Non-Material Change in Status of Darby Power, LLC, et al.

Filed Date: 3/31/20.

Accession Number: 20200331-5475.

Comments Due: 5 p.m. ET 4/21/20.

Docket Numbers: ER20-1458-000.

Applicants: Pacific Gas and Electric Company.

Description: § 205(d) Rate Filing: PG&E Southern Oaks BESS SGIA (SA 448) to be effective 6/1/2020.

Filed Date: 3/31/20.

Accession Number: 20200331-5282.

Comments Due: 5 p.m. ET 4/21/20.

Docket Numbers: ER20-1459-000.

Applicants: Pacific Gas and Electric Company.

Description: § 205(d) Rate Filing: PG&E Mission Ranch BESS SGIA (SA 449) to be effective 6/1/2020.

Filed Date: 3/31/20.

Accession Number: 20200331-5277.

Comments Due: 5 p.m. ET 4/21/20.

Docket Numbers: ER20-1460-000.

Applicants: Wisconsin Power and Light Company.

Description: § 205(d) Rate Filing: REC Amendment to Wholesale Power Agreement to be effective 6/1/2020.

Filed Date: 3/31/20.

Accession Number: 20200331-5279.

Comments Due: 5 p.m. ET 4/21/20.

Docket Numbers: ER20-1461-000.

Applicants: Wisconsin Power and Light Company.

Description: § 205(d) Rate Filing: CWEC Amendment to Wholesale Power Agreement to be effective 6/1/2020.

Filed Date: 4/1/20.

Accession Number: 20200401-5001.

Comments Due: 5 p.m. ET 4/22/20.

Docket Numbers: ER20-1462-000.

Applicants: Union Electric Company, Outlaw Wind Project, LLC.

Description: § 205(d) Rate Filing: Purchase and Sale Agreement to be effective 6/1/2020.

Filed Date: 4/1/20.

Accession Number: 20200401-5090.

Comments Due: 5 p.m. ET 4/22/20.

Docket Numbers: ER20-1463-000.

Applicants: American Transmission Systems, Incorporated, PJM Interconnection, L.L.C.

Description: § 205(d) Rate Filing: ATSI submits ECSA SA No. 5566 to be effective 5/31/2020.

Filed Date: 4/1/20.

Accession Number: 20200401-5091.

Comments Due: 5 p.m. ET 4/22/20.

Docket Numbers: ER20-1464-000.

Applicants: Consolidated Edison Company of New York, Inc.

Description: § 205(d) Rate Filing: Amendment PASNY Tariff 4-1-2020 to be effective 4/1/2020.

Filed Date: 4/1/20.

Accession Number: 20200401-5114.

Comments Due: 5 p.m. ET 4/22/20.

Docket Numbers: ER20-1465-000.

Applicants: PacifiCorp.

Description: § 205(d) Rate Filing: Avista Comm. Lease Agmt (Saddle Mtn) to be effective 6/1/2020.

Filed Date: 4/1/20.

Accession Number: 20200401-5188.

Comments Due: 5 p.m. ET 4/22/20.

Docket Numbers: ER20-1466-000.

Applicants: Louisville Gas and Electric Company.

Description: Compliance filing: Order No. 864 Compliance TCJA Att O Revision to be effective 1/27/2020.

Filed Date: 4/1/20.

Accession Number: 20200401-5192.

Comments Due: 5 p.m. ET 4/22/20.

Docket Numbers: ER20-1467-000.

Applicants: Duke Energy Florida, LLC.

Description: § 205(d) Rate Filing: Revised DEF-SECI RS No. 194 to be effective 6/1/2020.

Filed Date: 4/1/20.

Accession Number: 20200401-5193.

Comments Due: 5 p.m. ET 4/22/20.

Docket Numbers: ER20-1468-000.

Applicants: Arizona Public Service Company.

Description: § 205(d) Rate Filing: Service Agreement No. 371, Amendment No. 2—TOUA to be effective 4/2/2020.

Filed Date: 4/1/20.

Accession Number: 20200401-5196.

Comments Due: 5 p.m. ET 4/22/20.

Docket Numbers: ER20-1469-000.

Applicants: PJM Interconnection, L.L.C.

Description: Tariff Cancellation: Notice of Cancellation of ISA No. 3810 RE: Deactivation to be effective 6/1/2020.

Filed Date: 4/1/20.

Accession Number: 20200401-5200.

Comments Due: 5 p.m. ET 4/22/20.

Docket Numbers: ER20-1470-000.

Applicants: New York Independent System Operator, Inc.

Description: Request for Limited Waiver of Tariff Provisions of New York Independent System Operator, Inc.

Filed Date: 4/1/20.

Accession Number: 20200401-5202.

Comments Due: 5 p.m. ET 4/22/20.

Docket Numbers: ER20-1471-000.

Applicants: Public Service Company of New Mexico.

Description: § 205(d) Rate Filing: Annual Real Power Loss Factor Filing for 2020 to be effective 6/1/2020.

Filed Date: 4/1/20.

Accession Number: 20200401-5214.

Comments Due: 5 p.m. ET 4/22/20.

Docket Numbers: ER20-1472-000.

Applicants: Midcontinent Independent System Operator, Inc., Entergy Services, LLC.

Description: § 205(d) Rate Filing: 2020-04-01_Entergy Pension Filing to be effective 6/1/2020.

Filed Date: 4/1/20.

Accession Number: 20200401-5222.

Comments Due: 5 p.m. ET 4/22/20.

Docket Numbers: ER20-1473-000.

Applicants: AEP Generation Resources Inc.

Description: § 205(d) Rate Filing: Reactive Supply and Voltage Control from Generation Service to be effective 6/1/2020.

Filed Date: 4/1/20.

Accession Number: 20200401-5224.

Comments Due: 5 p.m. ET 4/22/20.

Docket Numbers: ER20-1473-000.

Applicants: AEP Generation Resources Inc.

Description: § 205(d) Rate Filing: Reactive Supply and Voltage Control from Generation Service to be effective 6/1/2020.

Filed Date: 4/1/20.

Accession Number: 20200401-5225.

Comments Due: 5 p.m. ET 4/22/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 1, 2020.
Nathaniel J. Davis, Sr.,
Deputy Secretary.

[FR Doc. 2020-07255 Filed 4-6-20; 8:45 am]

BILLING CODE 6717-01-P